DEPARTMENT OF TRANSPORTATION

Federal Aviation Administration

14 CFR Part 71

[Docket No. FAA-2008-0926; Airspace Docket No. 08-AAL-24]

RIN 2120-AA66

Establishment, Revision, and Removal of Area Navigation (RNAV) Routes; Alaska

AGENCY: Federal Aviation Administration (FAA), DOT.

ACTION: Final rule; correction.

SUMMARY: This action corrects errors in the legal descriptions of several Area Navigation Routes listed in a final rule published in the Federal Register on July 6, 2009 (74 FR 31845), Airspace Docket No. 08-AAL-24, FAA Docket No. FAA-2008-0926.

DATES: Effective Date: 0901 UTC, August 27, 2009. The Director of the Federal Register approves this incorporation by reference action under 1 CFR part 51, subject to the annual revision of FAA Order 7400.9 and publication of conforming amendments.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

History

On July 6, 2009, a final rule for Airspace Docket No. 08-AAL-24, FAA Docket No. FAA-2008-0926 was published in the Federal Register (74 FR 31845). This rule revised fourteen RNAV routes, as well as established new routes, in the State of Alaska. Additionally, the action removed four existing routes that were no longer required. The PDN description for T-227 published as “NDB/DM” is incorrect; the correct listing for PDN should be “NDB/DME”. The ENM description for route T-228 published as “ENM” is incorrect; the correct name for the description is “EHM”. In addition, the longitude coordinate listed as ROCES for route Q-48 published as 143°08′16″W., is incorrect; the correct longitude coordinate is 144°08′16″W. This action corrects those errors.

Correction to Final Rule

Accordingly, pursuant to the authority delegated to me, the legal descriptions for T-227, T-228, and Q48 as published in the Federal Register on July 6, 2009 (74 FR 31845), and incorporated by reference in 14 CFR 71.1, are corrected as follows:

§ 71.1 [Amended]

* * * * *

T-227 SYA to SCC [Corrected]
SYA | VORTAC | (Lat. 52°43′06″ N., long. 174°03′44″ E.)
JANNT | WP | (Lat. 52°04′18″ N., long. 178°15′37″ W.)
BAERE | WP | (Lat. 52°12′12″ N., long. 176°08′09″ W.)
ALEUT | Fix | (Lat. 54°14′17″ N., long. 166°32′52″ W.)
MORDI | Fix | (Lat. 54°52′50″ N., long. 165°03′15″ W.)
GENFU | Fix | (Lat. 55°23′18″ N., long. 163°06′21″ W.)
BINAL | Fix | (Lat. 55°46′00″ N., long. 161°59′56″ W.)
PDN | NDB/DME | (Lat. 56°57′15″ N., long. 158°38′51″ W.)
AMOTT | Fix | (Lat. 60°53′56″ N., long. 151°21′46″ W.)
ANC | VOR/DME | (Lat. 61°09′03″ N., long. 150°12′24″ W.)
FAI | VORTAC | (Lat. 64°48′00″ N., long. 148°00′43″ W.)
SCC | VOR/DME | (Lat. 70°11′57″ N., long. 148°24′58″W.)
* * * * * * *
T-228 EHM to ROCES [Corrected]
EHM | VOR/DME | (Lat. 62°47′05″ N., long. 164°29′15″ W.)
RUFVY | WP | (Lat. 59°56′34″ N., long. 164°02′04″ W.)
HPB | VOR/DME | (Lat. 61°30′52″ N., long. 166°08′04″ W.)
OME | VOR/DME | (Lat. 64°29′06″ N., long. 165°15′11″ W.)
HIKAX | WP | (Lat. 65°36′20″ N., long. 165°44′44″ W.)
SHH | NDB | (Lat. 66°15′29″ N., long. 166°03′09″ W.)
ECIPI | Fix | (Lat. 67°55′48″ N., long. 165°29′58″ W.)
BRW | VOR/DME | (Lat. 71°16′24″ N., long. 156°47′17″ W.)
SCC | VOR/DME | (Lat. 70°11′57″ N., long. 148°24′58″ W.)
ROCES | WP | (Lat. 70°08′34″ N., long. 144°08′16″ W.)
* * * * * * *
Q-48 BRW to ROCES [Corrected]
BRW | VOR/DME | (Lat. 71°16′24″ N., long. 156°47′17″ W.)
SCC | VOR/DME | (Lat. 70°11′57″ N., long. 148°24′58″ W.)
ROCES | WP | (Lat. 70°08′34″ N., long. 144°08′16″ W.)

* * * * *

Issued in Washington, DC, on August 3, 2009.
Edith V. Parish,
Manager, Airspace and Rules Group.

[FR Doc. E9-19037 Filed 8-10-09; 8:45 am]

BILLING CODE 4910-13-P